DEPARTMENT OF TRANSPORTATION

Federal Aviation Administration

14 CFR Part 39

[Docket No. FAA-2012-0147; Directorate Identifier 2011-NM-067-AD]

RIN 2120-AA64

Airworthiness Directives; The Boeing Company Airplanes

AGENCY: Federal Aviation Administration (FAA), DOT.

ACTION: Notice of proposed rulemaking (NPRM).

SUMMARY: We propose to supersede an existing airworthiness directive (AD) that applies to certain The Boeing Company Model 767-200 and -300 series airplanes. The existing AD requires replacement of the existing deactivation pin, aft cascade pin bushing, and pin insert on each thrust reverser half with new, improved components. Since we issued that AD, we received reports that certain airplanes require installation of a new bushing and deactivation pin with increased load carrying capability and all airplanes powered by Pratt & Whitney JT9D series engines require installation of a new bracket for stowing the deactivation pin. This proposed AD would add a dye penetrant inspection for cracking of the rivet holes of the bushing plate and repair or replacement, if necessary. For certain airplanes, this proposed AD would require replacing the existing bushing with a new bushing and deactivation pin; and installing a new or serviceable stowage bracket for the deactivation pins on all airplanes powered by Pratt & Whitney JT9D series engines. We are proposing this AD to prevent failure of the thrust reverser deactivation pins, which could fail to prevent a deployment of a deactivated thrust reverser in flight and consequent reduced controllability of the airplane.

DATES: We must receive comments on this proposed AD by April 9, 2012.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this AD, contact Boeing Commercial Airplanes, Attention: Data & Services Management, P.O. Box 3707, MC 2H-65, Seattle, Washington 98124-2207; telephone 206-544-5000, extension 1; fax 206-766-5680; email me.boecom@boeing.com; Internet https://www.myboeingfleet.com. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Rebel Nichols, Aerospace Engineer, Propulsion Branch, ANM-140S, FAA, Seattle Aircraft Certification Office (ACO), 1601 Lind Avenue SW., Renton, Washington 98057-3356; phone: 425-917-6509; fax: 425-917-6590; email: rebel.nichols@faa.gov.

SUPPLEMENTARY INFORMATION:

Comments Invited

We invite you to send any written relevant data, views, or arguments about this proposed AD. Send your comments to an address listed under the ADDRESSES section. Include “Docket No. FAA-2012-0147; Directorate Identifier 2011-NM-067-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On September 19, 2002, we issued AD 2002-19-11, Amendment 39-12891 (67 FR 61478, October 1, 2002), for certain Model 767-200 and -300 series airplanes powered by Pratt & Whitney JT9D series engines. The existing AD requires replacement of the existing deactivation pin, aft cascade pin bushing, and pin insert on each thrust reverser half, with new, improved components. The existing AD resulted from reports that the pin insert for the deactivation pin was not able to withstand the load of a powered deployment and could fail on some airplanes. We issued that AD to prevent failure of the thrust reverser deactivation pins, which could fail to prevent a deployment of a deactivated thrust reverser in flight and consequent reduced controllability of the airplane.

Actions Since Existing AD Was Issued

Since we issued AD 2002-19-11, Amendment 39-12891 (67 FR 61478, October 1, 2002), we received reports indicating that certain airplanes require installation of a new bushing and pin with increased load carrying capability, and all airplanes powered by Pratt & Whitney JT9D series engines require installation of a new bracket for stowing the deactivation pin. Specifically, we have been advised that the part number (P/N) 315T3222-3 bushing could not be replaced by the P/N 315T3222-10 bushing due to inadequate edge margin on the early thrust reverser configuration.

Relevant Service Information

AD 2002-19-11, Amendment 39-12891 (67 FR 61478, October 1, 2002), refers to Boeing Alert Service Bulletin 767-78A0089, Revision 1, dated May 30, 2002, as the appropriate source of service information for the required actions. Boeing has since revised this service information. We reviewed Boeing Alert Service Bulletin 767-78A0089, Revision 5, dated June 9, 2009, which identifies additional work that needs to be performed on specifically configured Group 2 airplanes for doing a dye penetrant inspection for cracking of the rivet holes of the bushing plate; repair or replacement of the bushing plate with a new or serviceable bushing plate if necessary; and replacing any existing P/N 315T3222-3 or P/N 315T3222-10 bushing and deactivation pin with a new P/N 315T3221-1 bushing and new P/N 315T1604-6 deactivation pin to provide adequate edge margin. Boeing Alert Service Bulletin 767-78A0089, Revision 5, dated June 9, 2009, also identifies additional work for installing a new or serviceable stowage bracket for the deactivation pins on all airplanes powered by Pratt & Whitney JT9D series engines.

FAA's Determination

We are proposing this AD because we evaluated all the relevant information and determined the unsafe condition described previously is likely to exist or develop in other products of these same type designs.

Proposed AD Requirements

This proposed AD would retain all requirements of AD 2002-19-11, Amendment 39-12891 (67 FR 61478, October 1, 2002). This proposed AD would also require accomplishing the actions specified in the service information described previously.

Change to Existing AD

Since AD 2002-19-11, Amendment 39-12891 (67 FR 61478, October 1, 2002), was issued, the AD format has been revised, and certain paragraphs have been rearranged. As a result, paragraphs (a) and (b) of AD 2002-19-11 Amendment 39-12891 (67 FR 61478, October 1, 2002), have been re-identified as paragraphs (g) and (h) in this proposed AD.

Costs of Compliance

We estimate that this proposed AD affects 23 airplanes of U.S. registry. We estimate the following costs to comply with this proposed AD:

Estimated Costs
Action | Labor cost | Parts cost | Cost per product | Number of U.S. registered airplanes | Cost on U.S. operators
Replace deactivation pin, pin bushing, and pin insert (retained actions from existing AD 2002-19-11, Amendment 39-12891 (67 FR 61478, October 1, 2002) | 12 work-hours × $85 per hour = $1,020 per inspection cycle | $12,108 | $13,128 | 23 | $301,944
Group 1: Install stowage bracket for deactivation pin (new proposed action) | 17 work-hours × $85 per hour = $1,445 | 14,644 | 16,089 | 16 | 257,424
Group 2: Replace bushing and deactivation pin and install stowage bracket for thrust reverser deactivation pin (new proposed action) | 17 work-hours × $85 per hour = $1,445 | 19,972 | 21,417 | 7 | 149,919

We have received no definitive data that would enable us to provide cost estimates for the on-condition actions (repair or replacement of bushing plate) specified in this proposed AD.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2002-19-11, Amendment 39-12891 (67 FR 61478, October 1, 2002), and adding the following new AD:

The Boeing Company: Docket No. FAA-2012-0147; Directorate Identifier 2011-NM-067-AD.

(a) Comments Due Date

The FAA must receive comments on this AD action by April 9, 2012.

(b) Affected ADs

This AD supersedes AD 2002-19-11, Amendment 39-12891 (67 FR 61478, October 1, 2002).

(c) Applicability

This AD applies to The Boeing Company Model 767-200 and -300 series airplanes, certificated in any category; as identified in Boeing Alert Service Bulletin 767-78A0089, Revision 5, dated June 9, 2009.

(d) Subject

Joint Aircraft System Component (JASC)/Air Transport Association (ATA) of America Code 7830, Thrust Reverser.

(e) Unsafe Condition

This AD was prompted by reports that certain airplanes require installation of a new bushing and deactivation pin with increased load carrying capability and all airplanes powered by Pratt & Whitney JT9D series engines require installation of a new bracket for stowing the deactivation pin. We are issuing this AD to prevent failure of the thrust reverser deactivation pins, which could fail to prevent a deployment of a deactivated thrust reverser in flight and consequent reduced controllability of the airplane.

(f) Compliance

Comply with this AD within the compliance times specified, unless already done.

Restatement of Requirements of AD 2002-19-11, Amendment 39-12891 (67 FR 61478, October 1, 2002), With Revised Service Information

(g) Replacement of Deactivation Pin, Pin Bushing, and Pin Insert

Within 24 months after November 5, 2002 (the effective date of AD 2002-19-11, Amendment 39-12891 (67 FR 61478, October 1, 2002)), replace the existing deactivation pin, pin bushing in the aft cascade mounting ring, and pin insert on each thrust reverser half, with new, improved components, in accordance with Boeing Alert Service Bulletin 767-78A0089, Revision 1, dated May 30, 2002; or Boeing Alert Service Bulletin 767-78A0089, Revision 5, dated June 9, 2009. After the effective date of this AD, only Boeing Alert Service Bulletin 767-78A0089, Revision 5, dated June 9, 2009, may be used.

Note to paragraph (g): The new, improved insert flange and pin bushing does not physically preclude use of a deactivation pin having P/N 315T1604-2 or -5. However, use of deactivation pins having P/N 315T1604-2 or -5 may not prevent the thrust reversers from deploying in the event of a full powered deployment. Therefore, thrust reversers modified per AD 2002-19-11, Amendment 39-12891 (67 FR 61478, October 1, 2002), are required to be installed with the new, longer deactivation pins having P/N 315T1604-6, as specified in Boeing Alert Service Bulletin 767-78A0089, Revision 1, dated May 30, 2002, or Boeing Alert Service Bulletin 767-78A0089, Revision 5, dated June 9, 2009. After the effective date of this AD, only Boeing Alert Service Bulletin 767-78A0089, Revision 5, dated June 9, 2009, may be used.

New Requirements of This AD

(h) Inspection, Bushing and Pin Replacement, and Installation of Stowage Bracket

Within 24 months after the effective date of this AD, do the applicable actions specified in paragraphs (h)(1) and (h)(2) of this AD.

(1) For Group 2 airplanes as identified in Boeing Alert Service Bulletin 767-78A0089, Revision 5, dated June 9, 2009, do a dye penetrant inspection for cracking of the rivet holes and replace any P/N 315T3222-3 or P/N 315T3222-10 bushing and deactivation pin with a new or serviceable P/N 315T3221-1 bushing and new P/N 315T1604-6 deactivation pin, in accordance with the Accomplishment Instructions of Boeing Alert Service Bulletin 767-78A0089, Revision 5, dated June 9, 2009. If any crack is found in the rivet holes of the bushing plate, before further flight, repair or replace the bushing plate with a new or serviceable bushing plate, as applicable, using a method approved in accordance with the procedures specified in paragraph (j) of this AD.

(2) For both Group 1 and Group 2 airplanes, as identified in Boeing Alert Service Bulletin 767-78A0089, Revision 5, dated June 9, 2009, install a new or serviceable stowage bracket assembly (P/N 015T0196-4 for the right thrust reverser, P/N 015T0196-5 for the left thrust reverser), in accordance with the Accomplishment Instructions of Boeing Alert Service Bulletin 767-78A0089, Revision 5, dated June 9, 2009.

(i) Credit for Actions Accomplished in Accordance With Previous Service Information

Actions accomplished before the effective date of this AD in accordance with Boeing Alert Service Bulletin 767-78A0089, Revision 2, dated March 13, 2003; Boeing Alert Service Bulletin 767-78A0089, Revision 3, dated December 18, 2003; or Boeing Alert Service Bulletin 767-78A0089, Revision 4, dated March 6, 2008; are considered acceptable for compliance with the corresponding requirements of paragraph (g) of this AD.

(j) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be emailed to: 9-ANM-Seattle-ACO-AMOC-Requests@faa.gov.

(2) Before using any approved AMOC, notify your appropriate principal inspector, or lacking a principal inspector, the manager of the local flight standards district office/certificate holding district office.

(3) AMOCs approved for AD 2002-19-11, Amendment 39-12891 (67 FR 61478, October 1, 2002), are approved as AMOCs for the corresponding provisions of paragraph (g) of this AD.

(k) Related Information

(1) For more information about this AD, contact Rebel Nichols, Aerospace Engineer, Propulsion Branch, ANM-140S, FAA, Seattle Aircraft Certification Office (ACO), 1601 Lind Avenue SW., Renton, Washington 98057-3356; phone: 425-917-6509; fax: 425-917-6590; email: rebel.nichols@faa.gov.

(2) For service information identified in this AD, contact Boeing Commercial Airplanes, Attention: Data & Services Management, P.O. Box 3707, MC 2H-65, Seattle, Washington 98124-2207; telephone 206-544-5000, extension 1; fax 206-766-5680; email me.boecom@boeing.com; Internet https://www.myboeingfleet.com. You may review copies of the referenced service information at the FAA, Transport Airplane Directorate, 1601 Lind Avenue SW., Renton, Washington. For information on the availability of this material at the FAA, call 425-227-1221.

Issued in Renton, Washington, on February 10, 2012.
Ali Bahrami,
Manager, Transport Airplane Directorate, Aircraft Certification Service.

[FR Doc. 2012-4162 Filed 2-21-12; 8:45 am]

BILLING CODE 4910-13-P